DEPARTMENT OF ENERGY

Federal Energy Regulatory Commission

[Docket No. RP00-268-000]

Destin Pipeline Company, L.L.C.; Notice of Proposed Changes in FERC Gas Tariff and Requests for Waiver

May 5, 2000.

Take notice that on May 2, 2000, Destin Pipeline Company, L.L.C. (Destin) tendered for filing as part of its FERC Gas Tariff, Original Volume No. 1, revised tariff sheets attached as Appendix A to the filing, proposed to become effective June 1, 2000.

Destin states that the purpose of this filing is to make certain housekeeping changes and to reflect a change in operator status as a result of the pending sale of Southern Natural Gas Company's (Southern) one-third ownership interest in Destin to Amoco Destin Pipeline Company (Amoco). A change in operator status is necessitated since the original operator, Southern, will no longer be a member-owner of Destin. Amoco and Tejas Destin, LLC will jointly operate the Destin pipeline system as more fully described in the application.

Destin also requests waiver of Order No. 587-I, to implement Internet Communications by December 31, 2000, and of its tariff requirements to offer shippers the option of electronic service agreements and other legal documents.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11780 Filed 5-10-00; 8:45 am]

BILLING CODE 6717-01-M